DEPARTMENT OF COMMERCE

National Oceanic and Atmospheric Administration

[I.D. 111501D]

Gulf of Mexico Fishery Management Council; Public Meetings

AGENCY: National Marine Fisheries Service (NMFS), National Oceanic and Atmospheric Administration (NOAA), Commerce.

ACTION: Notice of public meeting.

SUMMARY: The Gulf of Mexico Fishery Management Council will convene public meetings.

DATES: The meetings will be held on December 10-13, 2001.

ADDRESSES: These meetings will be held at the Imperial Palace Hotel, 850 Bayview Avenue, Biloxi, MS 39530; telephone: 228-436-3000.

Council address: Gulf of Mexico Fishery Management Council, 3018 U.S. Highway 301 North, Suite 1000, Tampa, FL 33619.

FOR FURTHER INFORMATION CONTACT: Wayne E. Swingle, Executive Director, Gulf of Mexico Fishery Management Council; telephone: (813) 228-2815.

SUPPLEMENTARY INFORMATION:

Council

December 12

8:30 a.m.-Convene.

8:45 a.m. - 9:15 a.m.-Appointment of new committee members. 9:15 a.m. - 12 noon-Receive public testimony on Dolphin/Washoo Environmental Impact Statement (EIS) and Draft Shrimp Amendment 10/Environmental Assessment (EA).

1:30 p.m. - 2:30 p.m.-Receive the report of the Shrimp Management Committee.

2:30 p.m. - 3:30 p.m.-Receive the report of the Mackerel Management Committee.

3:30 p.m. - 4 p.m.-Receive a report of the Law Enforcement Committee.

4 p.m. - 5 p.m.-CLOSED SESSION-Receive a report of the Advisory Panel (AP) Selection Committee.

December 13

8:30 a.m. - 12 noon-Receive a report of the Reef Fish Management Committee.

1:30 p.m. - 3 p.m.-Continue report of the Reef Fish Management Committee.

3 p.m. - 3:15 p.m.-Receive a report of the Personnel Committee.

3:15 p.m. - 3:30 p.m.-Receive a report of the Administrative Policy Committee.

3:30 p.m. - 3:45 p.m.-Receive a report of the Habitat Protection Committee.

3:45 p.m. - 4 p.m.-Receive a report of the International Commission for the Conservation of Atlantic Tunas Advisory Committee.

4 p.m. - 4:15 p.m.-Receive a report of the South Atlantic Fishery Management Council Liaison.

4:15 p.m. - 4:30 p.m.-Receive Enforcement Reports.

4:30 p.m. - 4:45 p.m.-Receive the NMFS Regional Administrator’s Report.

4:45 p.m. - 5 p.m.-Receive Director’s Reports.

5 p.m. - 5:15 p.m.-Other Business.

Committees

December 10

8:30 a.m. - 9:30 a.m.-CLOSED SESSION-Convene the AP Selection Committee to recommend members for an Ad Hoc Essential Fish Habitat (EFH)/EIS Review Panel.

9:30 a.m. - 10:30 a.m.-Convene the Personnel Committee to consider revisions to the personnel section of the Administrative Handbook.

10:30 a.m. - 11:30 a.m.-Convene the Administrative Policy Committee to consider revisions of Statement of Organization Practices and Procedures (SOPPS).

1 p.m. - 5:30 p.m.-Convene the Reef Fish Management Committee to review a consolidated Draft Reef Fish Amendment 18 with a draft supplemental environmental impact statement (DSEIS) that includes measures to further encourage grouper stocks as well as identification of EFH, habitat areas of particular concern (HAPCs), and gear impacts. The Committee may develop their recommendations to the Council and to approve public hearing locations. The Committee will also discuss a Fishery Management Plan (FMP) review protocol. The full Council will consider these recommendations on Thursday morning. Final action on Reef Fish Amendment 18 will likely be taken at the March 11-15, 2002 Council meeting in Mobile, AL. Public testimony on the amendment and DSEIS is scheduled before the Council takes final action.

December 11

8 a.m. - 11 a.m.--Convene the Shrimp Management Committee to review Draft Amendment 10/EA and develop recommendations to the full Council for final action. The full Council will consider these recommendations on Wednesday afternoon. The Shrimp Committee will also hear a report on the Gulf and South Atlantic Fisheries Foundation’s Bycatch and Effort Monitoring Program.

11 a.m. - 12 noon-Convene the Habitat Protection Committee to hear recommendations from Habitat Protection APs and to discuss a proposed Council freshwater inflow policy.

1 p.m. - 3 p.m.-Convene the Mackerel Management Committee to make recommendations regarding approval of the Dolphin/Wahoo EIS.

3 p.m. - 5:30 p.m.-Convene the Law Enforcement Committee to to receive progress reports on the 2001 Operations Plan and Cooperative Enforcement Agreements and to consider the 2002 Operations Plan.

Although non-emergency issues not contained in the agenda may come before the Council for discussion, in accordance with the Magnuson-Stevens Fishery Conservation and Management Act (Magnuson Act), those issues may not be the subject of formal Council action during this meeting. Council action will be restricted to those issues specifically identified in this notice and any issues arising after publication of this notice that require emergency action under section 305 (c) of the Magnuson Act, provided the public has been notified of the Council’s intent to take final action to address the emergency.

A copy of the Committee schedule and agenda can be obtained by calling (813) 228-2815.

Special Accommodations

These meetings are physically accessible to people with disabilities. Requests for sign language interpretation or other auxiliary aids should be directed to Anne Alford at the Council (see ADDRESSES) by December 3, 2001.

Dated: November 16, 2001.
Richard W. Surdi,
Acting Director, Office of Sustainable Fisheries, National Marine Fisheries Service.

[FR Doc. 01-29160 Filed 11-20-01; 8:45 am]

BILLING CODE 3510-22-S